FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 012139-002.

Agreement Name: ML/MSC Oceania Space Charter Agreement.

Parties: Maersk Line A/S and Mediterranean Shipping Company S.A.

Filing Party: Wayne Rohde; Cozen O'Connor.

Synopsis: The amendment replaces Hamburg Sud with Maersk Line A/S, deletes Hapag-Lloyd and CMA CGM/ANL as parties, and renames and substantively restates the Agreement.

Proposed Effective Date: 10/4/2019.

Location: https://www2.fmc.gov/FMC.Agreements.Web/Public/AgreementHistory/306.

Agreement No.: 012408-001.

Agreement Name: WW Ocean/Grimaldi Euromed SPA Space Charter Agreement.

Parties: Wallenius Wilhelmsen Ocean AS and Grimaldi Euromed S.P.A.

Filing Party: Wayne Rohde; Cozen O'Connor.

Synopsis: The amendment changes the name of the Wallenius Wilhelmsen entity that is party to the agreement, updates its address, and renames and restates the Agreement.

Proposed Effective Date: 8/19/2019.

Location: https://www2.fmc.gov/FMC.Agreements.Web/Public/AgreementHistory/1871.

Agreement No.: 201288-002.

Agreement Name: Digital Container Shipping Association Agreement.

Parties: CMA CGM S.A.; Evergreen Marine Corporation; Hapag Lloyd AG; Hyundai Merchant Marine Co., Ltd.; Maersk Line A/S; Mediterranean Shipping Company S.A.; Ocean Network Express Pte. Ltd.; Yang Ming Marine Transport Corporation; and Zim Integrated Shipping Services Ltd.

Filing Party: Wayne Rohde; Cozen O'Connor.

Synopsis: The amendment revises Appendices B through F to reflect changes in certain internal governance procedures of the Association, primarily by transferring certain functions from one body to another or otherwise clarifying existing authority/functions.

Proposed Effective Date: 8/19/2019.

Location: https://www2.fmc.gov/FMC.Agreements.Web/Public/AgreementHistory/21328.

Agreement No.: 201316.

Agreement Name: Trailer Bridge/APL Space Charter Agreement.

Parties: American President Lines, LLC; APL Co. Pte. Ltd.; and Trailer Bridge, Inc.

Filing Party: Patricia O'Neill; American President Lines, LLC.

Synopsis: The Agreement authorizes Trailer Bridge to charter space to APL on certain vessels Trailer Bridge operates in the Trade between ports on the Atlantic and Gulf Coasts of the United States, and ports in the Dominican Republic.

Proposed Effective Date: 8/16/2019.

Location: https://www2.fmc.gov/FMC.Agreements.Web/Public/AgreementHistory/22428.

Agreement No.: 201317.

Agreement Name: HLAG/ONE Slot Charter Agreement.

Parties: Hapag Lloyd AG and Ocean Network Express Pte. Ltd.

Filing Party: Wayne Rohde; Cozen O'Connor.

Synopsis: The agreement authorizes HLAG to charter space to ONE in the trade between the U.S. on one hand and ports in Central and South America on the other hand.

Proposed Effective Date: 8/19/2019.

Location: https://www2.fmc.gov/FMC.Agreements.Web/Public/AgreementHistory/22430.

Agreement No.: 201318.

Agreement Name: HLUSA/Schuyler Cooperative Working Agreement.

Parties: Hapag-Lloyd USA, LLC and Schuyler Line Navigation Company, LLC.

Filing Party: Wayne Rohde; Cozen O'Connor.

Synopsis: The Agreement authorizes Hapag-Lloyd USA to charter space to Schuyler for the movement of U.S. flag cargo in the trade between the U.S. Atlantic Coast and Denmark, Latvia, the United Kingdom, and France.

Proposed Effective Date: 8/21/2019.

Location: https://www2.fmc.gov/FMC.Agreements.Web/Public/AgreementHistory/22433.

Dated: August 23, 2019.
Rachel E. Dickon,
Secretary.

[FR Doc. 2019-18592 Filed 8-27-19; 8:45 am]

BILLING CODE 6731-AA-P